DEPARTMENT OF COMMERCE

National Oceanic and Atmospheric Administration

RIN 0648-XG187

Fisheries of the South Atlantic, Gulf of Mexico, and Caribbean; Southeast Data, Assessment, and Review (SEDAR); Public Meeting

AGENCY: National Marine Fisheries Service (NMFS), National Oceanic and Atmospheric Administration (NOAA), Commerce.

ACTION: Notice of a public meeting.

SUMMARY: The SEDAR Steering Committee will meet to discuss the SEDAR process and assessment schedule. See SUPPLEMENTARY INFORMATION.

DATES: The SEDAR Steering Committee will meet Monday, May 14, 2018, from 1 p.m. until 6 p.m. and Tuesday, May 15, 2018, from 8:30 a.m. until 3 p.m.

ADDRESSES: The Steering Committee meeting will be held at the Crowne Plaza Charleston Airport, 4831 Tanger Outlet Boulevard, North Charleston, SC 29418; (843) 744-4422.

SEDAR address: South Atlantic Fishery Management Council, 4055 Faber Place Drive, Suite 201, N Charleston, SC 29405; www.sedarweb.org.

FOR FURTHER INFORMATION CONTACT: John Carmichael, Deputy Executive Director, 4055 Faber Place Drive, Suite 201, North Charleston, SC 29405; phone: (843) 571-4366 or toll free: (866) SAFMC-10; fax: (843) 769-4520; email: john.carmichael@safmc.net.

SUPPLEMENTARY INFORMATION: The items of discussion are as follows:

1. SEDAR development and evolution

2. Future SEDAR approaches and process

3. SEDAR current projects report

4. SEDAR future projects schedule

The Committee will discuss the agenda items and take action as necessary.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Special Accommodations

This meeting is accessible to people with disabilities. Requests for auxiliary aids should be directed to the SAFMC office (see ADDRESSES) at least 3 business days prior to the meeting.

Note: The times and sequence specified in this agenda are subject to change.

Authority: 16 U.S.C. 1801 et seq.

Dated: April 19, 2018.
Tracey L. Thompson,
Acting Deputy Director, Office of Sustainable Fisheries, National Marine Fisheries Service.

[FR Doc. 2018-08502 Filed 4-23-18; 8:45 am]

BILLING CODE 3510-22-P